DEPARTMENT OF COMMERCE

International Trade Administration

[A-570-101]

Greige Polyester Cotton Printcloth From the People's Republic of China: Final Results of Sunset Review and Revocation of Order

AGENCY: Import Administration, International Trade Administration, Department of Commerce.

SUMMARY: On May 3, 2010, the Department of Commerce (“the Department”) initiated the sunset review of the antidumping duty order on greige polyester cotton printcloth from the People's Republic of China (“PRC”). Because the domestic interested parties did not participate in this sunset review, the Department is revoking this antidumping duty order.

FOR FURTHER INFORMATION CONTACT: Jennifer Moats, AD/CVD Operations, Import Administration, International Trade Administration, U.S. Department of Commerce, 14th Street and Constitution Avenue, NW., Washington, DC 20230; telephone: (202) 482-5047.

SUPPLEMENTARY INFORMATION: On September 16, 1983, the Department issued an antidumping duty order on greige polyester cotton printcloth from the PRC. See Greige Polyester Printcloth From the People's Republic of China—Antidumping Duty Order, 48 FR 41614 (September 16, 1983). On June 27, 2005, the Department published its most recent continuation of the order. See Continuation of the Antidumping Duty Order; Greige Polyester Cotton Printcloth from the People's Republic of China, 70 FR 36927 (June 27, 2005). On May 3, 2010, the Department initiated a sunset review of this order. See Initiation of Five-Year (“Sunset”) Review, 75 FR 23240 (May 3, 2010).

We did not receive a notice of intent to participate from domestic interested parties in this sunset review by the deadline date. As a result, in accordance with 19 CFR 351.218(d)(1)(iii)(A), the Department determined that no domestic interested party intends to participate in the sunset review, and on May 24, 2010, we notified the International Trade Commission, in writing, that we intended to issue a final determination revoking this antidumping duty order. See 19 CFR 351.218(d)(1)(iii)(B)(2).

Scope of the Order: The merchandise subject to this antidumping order is greige polyester cotton printcloth, other than 80 x 80 type. Greige polyester cotton printcloth is of chief weight cotton,¹ unbleached and uncolored printcloth. The term “printcloth” refers to plain woven fabric, not napped, not fancy or figured, of singles yarn, not combed, of average yarn number 43 to 68,² weighing not more than 6 ounces per square yard, of a total count of more than 85 yarns per square inch, of which the total count of the warp yarns per inch and the total count of the filling yarns per inch are each less than 62 percent of the total count of the warp and filling yarns per square inch. This merchandise is currently classifiable under Harmonized Tariff Schedule (“HTSUS”) item 5210.11.6060. The HTSUS item number is provided for convenience and customs purposes; however, the written description remains dispositive.

¹ In the scope from the original investigation, the Department defined the subject merchandise by chief value (i.e., the subject merchandise was of chief value cotton). In later reviews of this Order, the Department has incorporated the U.S Customs Service's conversion to chief weight (i.e., the subject merchandise is of chief weight cotton). See Continuation of the Antidumping Duty Order; Greige Polyester Cotton Printcloth from the People's Republic of China, 70 FR 36927 (June 27, 2005).

² Under the English system, this average yarn number count translates to 26 to 40. The average yarn number counts reported in previous scope descriptions by the Department are based on the English system of yarn number counts. Per phone conversations with U.S. Customs and Border Protection (“CBP”) officials, CBP now relies on the metric system to establish average yarn number counts. Thus, the 26 to 40 average yarn number count under the English system translates to a 43 to 68 average yarn number count under the metric system. See Continuation of the Antidumping Duty Order; Greige Polyester Cotton Printcloth from the People's Republic of China, 70 FR 36927 (June 27, 2005).

Determination to Revoke: Pursuant to section 751(c)(3)(A) of the Tariff Act of 1930, as amended (“the Act”) and 19 CFR 351.218(d)(1)(iii)(B)(3), if no domestic interested party files a notice of intent to participate, the Department shall, within 90 days after the initiation of the review, issue a final determination revoking the order. Because the domestic interested parties did not file a notice of intent to participate in this sunset review, the Department finds that no domestic interested party is participating in this sunset review. Therefore, consistent with 19 CFR 351.222(i)(1)(i) and section 751(c)(3)(A) of the Act, we are revoking this antidumping duty order. The effective date of revocation is June 27, 2010, the fifth anniversary of the date of publication in the Federal Register of the most recent notice of continuation of this antidumping duty order.

Effective Date of Revocation: Pursuant to section 751(c)(3)(A) of the Act and 19 CFR 351.222(i)(2)(i), the Department intends to issue instructions to U.S. Customs and Border Protection, 15 days after publication of this notice, to terminate the suspension of liquidation of the merchandise subject to this order entered, or withdrawn from warehouse, on or after June 27, 2010. Entries of subject merchandise prior to the effective date of revocation will continue to be subject to suspension of liquidation and antidumping duty deposit requirements. The Department will complete any pending administrative reviews of this order and will conduct administrative reviews of subject merchandise entered prior to the effective date of revocation in response to appropriately filed requests of review.

This five-year (sunset) review and notice are published in accordance with sections 751(c) and 777(i)(1) of the Act.

Dated: June 25, 2010.
John M. Andersen,
Acting Deputy Assistant Secretary for Antidumping and Countervailing Duty Operations.

[FR Doc. 2010-16205 Filed 7-1-10; 8:45 am]

BILLING CODE 3510-DS-P